DEPARTMENT OF HEALTH AND HUMAN SERVICES

National Institutes of Health

Submission for OMB Review; Comment Request; NIH Intramural Research Training Award, Program Application

SUMMARY: Under the provisions of section 3507(a)(1)(D) of the Paperwork Reduction Act of 1995, the Office of the Director, the National Institutes of Health (NIH) has submitted to the Office of Management and Budget (OMB) a request to review and approve the information collection listed below. This proposed information collection was previously published in the Federal Register on Friday, October 4, 2002, page 62253 and allowed 60 days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection

Title: NIH Intramural Research Training Award, Program Application; Type of Information Collection Request: Revision of OMB No. 0925-0299; Expiration date 03/31/2003; Need and Use of Information Collection: The proposed information collection activity is for the purpose of collecting data related to the availability of Training Fellowships under the NIH Intramural Research Training Award Program. This information must be submitted in order to receive due consideration for an award and will be used to determine the eligibility and quality of potential awardees. Frequency of Response: On occasion. Affected Public: Individuals seeking Intramural Training award opportunities. Type of Respondents: Postdoctoral, Predoctoral, Post-baccalaureate, Technical, and Student IRTA applicants.

There are no Capital Costs, Operating Costs, and/or Maintenance Costs to report.

Type of respondent | Estimated number for respondents | Estimated number of responses per respondent | Average burden hours per response | Estimated total annual burden hours requested
Postdoctoral IRTA | 1,375 | 1.00 | 1.00 | 1,375
Predoctoral | 306 | 1.00 | 1.00 | 306
Postbaccalaureate | 793 | 1.00 | 1.00 | 793
Technical IRTA | 83 | 1.00 | 1.00 | 83
Student IRTA | 3,800 | 1.00 | 1.00 | 3,800
References for all IRTA categories | 15,188 | 1.00 | 0.33 | 5,012
Total | 21,545 | 1.00 | 0.5276862 | 11,369

Request for Comments

Written comments and/or suggestions from the public and affected agencies are invited on one or more of the following points: (1) Whether the proposed collection of information is necessary for the proper performance of the agency, including whether the information will have practical utility; (2) The accuracy of the agency's estimate of the proposed collection of information, including the validity of the methodology and assumptions used; (3) Ways to enhance the quality, utility, and the clarity of information to be collected; and (4) Ways to minimize the burden of the collection of information on those who are to respond, including the use of appropriate automated, electronic, mechanical, or other technological collection techniques or other forms of information technology.

Direct Comments to

Written comments and/or suggestions regarding the items contained in this notice, especially regarding the estimated public burden and associated response time should be directed to the: Office of Management and Budget, Office of Regulatory Affairs, New Executive Office Building, Room 10235, Washington, DC 20503, Attention: Desk Officer for NIH. To request more information on the proposed project or to obtain a copy of the data collection plans and instruments, contact: Edie Bishop, Personnel Management Specialist, Office of Human Resources, OD, NIH, Building 31, Room B3C07, 31 Center Drive MSC. 2203, Bethesda, MD, 20892-2203, or call non-toll-free number (301) 496-1443, or E-mail your request, including your address to: Bishope@od.nih.gov.

Comments Due Date

Comments regarding this information collection are best assured of having their full effect if received within 30-days of the date of this publication.

Dated: January 3, 2003.
Frederick C. Walker,
Acting Director, Office of Human Resources.

[FR Doc. 03-439 Filed 1-9-03; 8:45 am]

BILLING CODE 4140-01-M